DEPARTMENT OF TRANSPORTATION

Federal Motor Carrier Safety Administration

[Docket No. FMCSA-2020-0087]

Qualification of Drivers; Exemption Applications; Implantable Cardioverter Defibrillators

AGENCY: Federal Motor Carrier Safety Administration (FMCSA), DOT.

ACTION: Notice of correction; extension of comment period.

SUMMARY: FMCSA corrects the State of domicile for one individual listed in its April 15, 2020, notice requesting comments on the receipt of applications from five individuals for an exemption from the prohibition in the Federal Motor Carrier Safety Regulations (FMCSRs) against operation of a commercial motor vehicle (CMV) by persons with a current clinical diagnosis of myocardial infarction, angina pectoris, coronary insufficiency, thrombosis, or any other cardiovascular disease of a variety known to be accompanied by syncope (transient loss of consciousness), dyspnea (shortness of breath), collapse, or congestive heart failure. The Agency also extends the public comment period for that notice.

DATES: This correction is effective May 19, 2020. The comment period for the notice published April 15, 2020, at 85 FR 21061, is extended by 30 days. Comments must be received on or before June 15, 2020.

ADDRESSES: You may submit comments identified by the Federal Docket Management System (FDMS) Docket ID FMCSA-2020-0087 using any of the following methods:

• Federal eRulemaking Portal: Go to http://www.regulations.gov/docket?D=FMCSA-2020-0087. Follow the online instructions for submitting comments.

• Mail: Docket Management Facility; U.S. Department of Transportation, 1200 New Jersey Avenue SE, West Building Ground Floor, Room W12-140, Washington, DC 20590-0001.

• Hand Delivery: West Building Ground Floor, Room W12-140, 1200 New Jersey Avenue SE, Washington, DC, between 9 a.m. and 5 p.m., ET, Monday through Friday, except Federal Holidays.

• Fax: (202) 493-2251.

To avoid duplication, please use only one of these four methods. See the “Public Participation” portion of the SUPPLEMENTARY INFORMATION section for instructions on submitting comments.

FOR FURTHER INFORMATION CONTACT: Ms. Christine A. Hydock, Chief, Medical Programs Division, (202) 366-4001, fmcsamedical@dot.gov, FMCSA, Department of Transportation, 1200 New Jersey Avenue SE, Room W64-224, Washington, DC 20590-0001. Office hours are from 8:30 a.m. to 5 p.m., ET, Monday through Friday, except Federal holidays. If you have questions regarding viewing or submitting material to the docket, contact Docket Operations, (202) 366-9826.

SUPPLEMENTARY INFORMATION: On April 15, 2020, (85 FR 21061), FMCSA published a notice regarding five individuals requesting an exemption from the physical qualification standard found in § 391.41(b)(4), which states that a person is physically qualified to drive a CMV if that person has no current clinical diagnosis of myocardial infarction, angina pectoris, coronary insufficiency, thrombosis, or any other cardiovascular disease of a variety known to be accompanied by syncope, dyspnea, collapse, or congestive cardiac failure. The notice referenced, in error, Minnesota as the State of domicile for the applicant, Theodore J. Engelke. Mr. Engelke's correct State of domicile is Wisconsin.

In addition, FMCSA extends the comment period to ensure that interested parties have sufficient time to review and comment on the exemption applications.

Larry W. Minor,
Associate Administrator for Policy.

[FR Doc. 2020-10689 Filed 5-18-20; 8:45 am]

BILLING CODE 4910-EX-P